SMALL BUSINESS ADMINISTRATION

[Disaster Declaration # 11004 and # 11005]

Minnesota Disaster Number MN-00011

AGENCY: U.S. Small Business Administration.

ACTION: Amendment 4.

SUMMARY: This is an amendment of the Presidential declaration of a major disaster for the State of Minnesota (FEMA-1717-DR), dated 08/23/2007.

Incident: Severe Storms and Flooding.

Incident Period: 08/18/2007 through 08/31/2007.

DATES: Effective Date: 10/22/2007.

Physical Loan Application Deadline Date: 11/14/2007.

EIDL Loan Application Deadline Date: 05/23/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Minnesota, dated 08/23/2007 is hereby amended to extend the deadline for filing applications for physical damages as a result of this disaster to 11/14/2007.

All other information in the original declaration remains unchanged.

(Catalog of Federal Domestic Assistance Numbers 59002 and 59008)

James E. Rivera,
Acting Associate Administrator for Disaster Assistance.

[FR Doc. E7-21414 Filed 10-30-07; 8:45 am]

BILLING CODE 8025-01-P